DEPARTMENT OF HEALTH AND HUMAN SERVICES

[Document Identifier: HHS-EGOV-16815-60D]

Agency Information Collection Activities; Proposed Collection; Public Comment Request

AGENCY: Electronic Government Office, HHS.

ACTION: Notice.

SUMMARY: In compliance with the requirement of section 3506(c)(2)(A) of the Paperwork Reduction Act of 1995, the Electronic Government Office (EGOV), Department of Health and Human Services, announces plans to submit a request to extend the use of an approved Information Collection Request (ICR) to the Office of Management and Budget. The approved ICR is assigned OMB control number 4040-0005 and expires on August 31, 2012. Prior to submitting that ICR to OMB, HHS seeks comments from the public regarding the burden estimate, below, or any other aspect of the ICR. HHS especially requests comments on (1) The necessity and utility of the proposed information collection for the proper performance of the agency's functions, (2) the accuracy of the estimated burden, (3) ways to enhance the quality, utility, and clarity of the information to be collected, and (4) the use of automated collection techniques or other forms of information technology to minimize the information collection burden.

Deadline: Comments on the ICR must be received within 60 days of the issuance of this notice.

ADDRESSES: Submit your comments, including the document identifier HHS-EGOV-16815-60D, to ed.calimag@hhs.gov or by calling (202) 690-7569.

Copies of the supporting statement and any related forms for the ICR may also be requested through the above email or telephone number.

Information Collection Request Title: SF-424 Individual.

Abstract: The SF-424 Individual form is the common Federal (standard) form for grant applications for individuals. It replaced numerous agency-specific forms.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR, summarized in the table below, are based on information gathered from the National Endowment for the Arts (NEA) and the National Endowment for the Humanities (NEH).

Total Estimated Annualized Burden for SF-424 Individual—Hours
Organization | Number of respondents | Number of responses per respondent | Average burden per response (in hours) | Total burden hours
NEA | 1,591 | 1 | 1 | 1,591
NEH | 3,394 | 1 | 1 | 3,394
Total | 4,985 |  |  | 4,985

Keith A. Tucker,
Information Collection Clearance Officer, Department of Health and Human Services.

[FR Doc. 2012-16284 Filed 7-3-12; 8:45 am]

BILLING CODE 4151- AE-P